DEPARTMENT OF TRANSPORTATION

Federal Aviation Administration

Notice of Intent To Rule on Application 04-02-C-00-OAJ To Impose and Use the Revenue From a Passenger Facility Charge (PFC) at Albert J. Ellis Airport, Jacksonville, North Carolina

AGENCY: Federal Aviation Administration (FAA), DOT.

ACTION: Notice of intent to rule on application.

SUMMARY: The FAA proposes to rule and invites public comment on the application to impose and use the revenue from a PFC at Albert J. Ellis Airport under the provisions of the 49 U.S.C. 40117 and part 158 of the Federal Aviation Regulations (14 CFR part 158).

DATES: Comments must be received on or before November 8, 2004.

ADDRESSES: Comments on this application may be mailed or delivered in triplicate to the FAA at the following address: Atlanta Airports District Office, 1701 Columbia Avenue, Suite 2-260, College Park, Georgia.

In addition, one copy of any comments submitted to the FAA must be mailed or delivered to Jerry Vickers, Director of Aviation of the Albert J. Ellis Airport at the following address: 264 A. J. Ellis Airport Road, Jacksonville, NC 28574.

Air carriers and foreign air carriers may submit copies of written comments previously provided to the Albert J. Ellis Airport under section 158.23 of part 158.

FOR FURTHER INFORMATION CONTACT: Tracie D. Kleine, Program Manager, Atlanta Airports District Office, 1701 Columbia Avenue, Suite 2-260, College Park, Georgia 30337, (404) 305-7148. The application may be reviewed in person at this same location.

SUPPLEMENTARY INFORMATION: The FAA proposes to rule and invites public comment on the application to impose and use the revenue from a PFC at Albert J. Ellis Airport under the provisions of the 49 U.S.C. 40117 and part 158 of the Federal Aviation Regulations (14 CFR part 158).

On September 30, 2004, the FAA determined that the application to impose and use the revenue from a PFC submitted by Albert J. Ellis Airport was substantially complete within the requirements of section 158.25 of part 158. The FAA will approve or disapprove the application, in whole or in part, no later than December 30, 2004.

The following is a brief overview of the application.

Proposed charge effective date: February 1, 2005.

Proposed charge expiration date: March 1, 2006.

Level of the proposed PFC: $3.00.

Total estimated PFC revenue: $678,542.

Brief description of proposed project(s):

ARFF SCBA's

Access Road Signage

Terminal Renovations

ARFF Turnout Gear

Master Plan Update

ARFF Vehicle

Rescue Equipment (with vehicle)

Runway 5/23 Rehabilitation (Design)

DBE Program

Runway 5/23 Rehabilitation

Access & Emergency Roads

ARFF Design

Beacon Rehabilitation

Terminal Renovation Design

Communication Equipment

Signage

Runway Rehabilitation

Wind-cone Relocation

Security Gates

ARFF Multipurpose Complex

Terminal Renovations

General Aviation Rehabilitation

Ramp Patrol Vehicle

ARFF Equipment

Snow Removal Equipment

Rescue Utility Vehicle (ATV)

Security System Improvements

Airfield Electric & Vault Improvements

Commute-A-Walk Rehabilitation

Obstruction Removal

Communications Upgrade (repeater)

Terminal Generator

Apron Lighting

Airfield Drainage Improvements

General Aviation Apron Expansion

T-hanger Taxi-lane

T-hangar/Corporate Taxi-lane & Apron

T-hangar/Corporate Hangar Access

Economic Impact Study

Terminal Security System

ARFF Vehicle

Remove Existing Maintenance Building

ADA Lift Device

General Aviation Terminal Construction

General Aviation Terminal Access Road & Parking

Emergency Response Vehicle

Air Carrier Apron Expansion

PFC Amendment/Application Development

PFC Program Administration

Class or classes of air carriers which the public agency has requested not be required to collect PFCs: None.

Any person may inspect the application in person at the FAA office listed above under FOR FURTHER INFORMATION CONTACT.

In addition, any person may, upon request, inspect the application, notice and other documents germane to the application in person at the Albert J. Ellis Airport.

Issued in College Park, Georgia, on September 30, 2004.
Scott L. Seritt,
Manager, Atlanta Airports District Office, Southern Region.

[FR Doc. 04-22618 Filed 10-7-04; 8:45 am]

BILLING CODE 4910-13-M